DEPARTMENT OF HOMELAND SECURITY

Coast Guard

[Docket No. USCG-2023-0924]

National Offshore Safety Advisory Committee; March 2024 Meeting

AGENCY: Coast Guard, Department of Homeland Security.

ACTION: Notice of open Federal advisory committee meeting.

SUMMARY: The National Offshore Safety Advisory Committee (Committee) will conduct a series of meetings over 2 days in New Orleans, LA to discuss matters relating to activities directly involved with, or in support of, the exploration of offshore mineral and energy resources, to the extent that such matters are within the jurisdiction of the United States Coast Guard. All meetings will be open to the public.

DATES: Meetings: The National Offshore Safety Advisory Committee's subcommittees will meet on Tuesday, March 12, 2024, from 12:30 p.m. to 3:30 p.m. Central Daylight Time (CDT). These subcommittee meetings will be for 90 minutes each and will start with the Subchapter N subcommittee, from 12:30 p.m. to 2 p.m. (CDT); and then the SEACOR POWER subcommittee from 2 p.m. to 3:30 p.m. (CDT).

The full Committee will meet on Wednesday, March 13, 2024, from 8 a.m. to 5 p.m. (CDT). Please note these meetings may close early if the subcommittees or the full Committee have completed their business.

Comments and supporting documents: To ensure your comments are reviewed by Committee members before the meetings, submit your written comments no later than February 28, 2024.

ADDRESSES: The meetings will be held at the Renaissance New Orleans Pere Marquette French Quarter Area Hotel, 817 Common Street, New Orleans, LA 70112-2307, website Family-Friendly Hotel, New Orleans | Renaissance New Orleans French Quarter Area (marriott.com).

The National Offshore Safety Advisory Committee is committed to ensuring all participants have equal access regardless of disability status. If you require reasonable accommodations due to a disability to fully participate, please email Mr. Patrick Clark at patrick.w.clark@uscg.mil or telephone at 571-607-8236 as soon as possible.

Instructions: You are free to submit comments at any time, including orally at the meetings as time permits, but if you want Committee members to review your comment before the meetings, please submit your comments no later than February 28, 2024. We are particularly interested in comments on the topics in the “Agenda” section below. We encourage you to submit comments through the Federal Decision Making Portal at https://www.regulations.gov. To do so, go to https://www.regulations.gov, type USCG-2023-0924 in the search box and click “Search.” Next, look for this document in the Search Results column, and click on it. If your material cannot be submitted using https://www.regulations.gov, email the individual in the FOR FURTHER INFORMATION CONTACT section of this document for alternate instructions. You must include the docket number USCG-2023-0924. Comments received will be posted without alteration at http://www.regulations.gov, including any personal information provided. You may wish to review the Privacy and Security Notice, found via link on the homepage https://www.regulations.gov. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Patrick W. Clark, Designated Federal Officer of the National Offshore Safety Advisory Committee, 2703 Martin Luther King Jr Ave SE, Stop 7509, Washington, DC 20593-7509, telephone 571-607-8236 or email patrick.w.clark@uscg.mil.

SUPPLEMENTARY INFORMATION: Notice of this meeting is given pursuant to the Federal Advisory Committee Act (Pub. L. 117-286, 5 U.S.C., ch. 10). The National Offshore Safety Advisory Committee was established on December 4, 2018, by section 601 of the Frank LoBiondo Coast Guard Authorization Act of 2018 (Pub. L. 115-282, 132 Stat. 4192), and amended by section 8331 of the Elijah E. Cummings Coast Guard Authorization Act of 2022 (Pub. L. 116-283) and is codified in 46 U.S.C. 15106. The Committee operates under the provisions of the Federal Advisory Committee Act, and 46 U.S.C. 15109. The Committee provides advice and recommendations to the Secretary of Homeland Security on matters relating to activities directly involved with, or in support of, the exploration of offshore mineral and energy resources, to the extent that such matters are within the jurisdiction of the United States Coast Guard.

Agenda

Tuesday, March 12, 2024

Two subcommittees will meet to discuss the following task statements.

(1)Task Statement 02-2023: 33 CFR Subchapter N

(2)Task Statement 01-2023: SEACOR POWER

The task statements and other subcommittee information are located at Pages—Missions Content (uscg.mil).

Wednesday, March 13, 2024

The agenda for the March 13, 2024 Committee meeting is as follows:

(1) Call to order.

(2) Roll call and determination of quorum.

(3) Installation of new Chair and Vice-Chair.

(4) Adoption of previous meeting minutes and agenda.

(5) Opening remarks.

(6) Update/Final Report from the 33 CFR Subchapter N Subcommittee.

(7) Update/Final Report from the SEACOR POWER Subcommittee.

(8) New business.

(9) Public comment period.

(10) Closing remarks/plans for next meeting.

(11) Adjournment of meeting.

A copy of all pre-meeting documentation will be available at: Pages—Missions Content (uscg.mil) no later than February 28, 2024. Alternatively, you may contact Mr. Patrick Clark as noted in the FOR FURTHER INFORMATION CONTACT section above.

During the March 13, 2024, Committee meeting, a public comment period will be held from approximately 4:30 p.m. to 5 p.m. (CDT). Speakers are requested to limit their comments to 3 minutes. Please note that this public comment period may start before 4:30 p.m. (CDT) if all other agenda items have been covered and may end before 5 p.m. (CDT) if all of those wishing to comment have done so. Please contact the individual listed in the FOR FURTHER INFORMATION CONTACT section to register as a speaker.

Dated: January 17, 2024.
Jeffrey G. Lantz,
Director of Commercial Regulations and Standards.

[FR Doc. 2024-01229 Filed 1-22-24; 8:45 am]

BILLING CODE 9110-04-P